DEPARTMENT OF AGRICULTURE

Food and Nutrition Service

7 CFR Part 246

RIN 0584-AD77

Special Supplemental Nutrition Program for Women, Infants and Children (WIC): Revisions in the WIC Food Packages

Correction

In proposed rule document 06-6627 beginning on page 44784 in the issue of Monday, August 7, 2006, make the following corrections:

1. On page 44795, the table entitled “Exhibit G.—Number of Powder Infant Formula Containers Issued to an Infant Participant Born 01/01/2006, for Food Packages I & II Fully Formula Fed (FF) Using Rounding Up” is being reprinted in its entirety to read as follows:

Exhibit G.—Number of Powder Infant Formula Containers Issued to an Infant Participant Born 01/01/2006, for Food Packages I & II Fully Formula Fed (FF) Using Rounding Up
Approximate reconstitution amount per container | Mead Johnson's Enfamil Lipil (number of 12.9 oz. containers) 94 fl. oz. | Ross' Similac Advance (number of 12.9 oz. containers) 96 fl. oz. | Nestle's Good Start Supreme (number of 12.0 oz. containers) 87 fl. oz.
Food Package I-FF A (FNB = 806 fl. oz. per month):
January, age 0 months | 9.0 | 9.0 | 10.0
February, age 1 month | 8.0 | 9.0 | 10.0
March, age 2 months | 9.0 | 8.0 | 9.0
April, age 3 months | 9.0 | 8.0 | 9.0
Food Package I-FF A subtotal | 35 | 34 | 38
Food Package I-FF B (FNB = 884 fl. oz. per month):
May, age 4 months | 10.0 | 10.0 | 11.0
June, age 5 months | 9.0 | 9.0 | 10.0
Food Package I-FF B subtotal | 19 | 19 | 21
Food Package II-FF (FNB = 624 fl. oz. per month):
July, age 6 months | 7.0 | 7.0 | 8.0
August, age 7 months | 6.0 | 6.0 | 7.0
September, age 8 months | 7.0 | 7.0 | 7.0
October, age 9 months | 6.0 | 6.0 | 8.0
November, age 10 months | 7.0 | 7.0 | 7.0
December, age 11 months | 7.0 | 6.0 | 7.0
Food Package II-FF subtotal | 40 | 39 | 44
Infant package total of formula issued | 94 | 92 | 103

§ 246.10 [Corrected]

2. On page 44817, in § 246.10(e)(9), Table 1 is being reprinted in its entirety to read as follows:

Table 1.—Maximum Monthly Allowances of Supplemental Foods For Infants In Food Packages I, II and III
Foods ¹ | Fully formula fed (FF): Food packages I-FF & III-FF A: 0 through 3 months B: 4 through 5 months | Fully formula fed (FF): Food packages II-FF & III-FF 6 through 11 months | Partially breastfed (BF/FF): Food packages I-BF/FF & III BF/FF A: 1 through 3 months ² B: 4 through 5 months | Partially breastfed (BF/FF): Food packages II-BF/FF & III BF/FF 6 through 11 months | Fully breastfed (BF): Food package I-BF 0 through 5 months | Fully breastfed (BF): Food package II-BF & III BF 6 through 11 months
Infant formula 3 4 5 6 and Exempt Infant formula | A: 806 fl. oz. reconstituted liquid concentrate or 800 fl. oz. RTF or 870 fl. oz. reconstituted powder | 624 fl. oz. reconstituted liquid concentrate or 640 fl. oz. RTF or 696 fl. oz. reconstituted powder | A: 364 fl. oz. reconstituted liquid concentrate or 364 fl. oz. RTF or 435 fl. oz. reconstituted powder | 312 fl. oz. reconstituted liquid concentrate or 320 fl. oz. RTF or 384 fl. oz. reconstituted powder
| B: 884 fl. oz. reconstituted liquid concentrate or 896 fl. oz. RTF or 960 fl. oz. reconstituted powder |  | B: 442 fl. oz. reconstituted liquid concentrate or 448 fl. oz. RTF or 522 fl. oz. reconstituted powder |
Infant cereal ⁷ |  | 24 oz |  | 24 oz |  | 24 oz.
Infant food 7 8 fruits and vegetables Infant food meat |  | 128 oz |  | 128 oz |  | 256 oz. 77.5 oz.
Table 1 Footnotes: (abbreviations in order of appearance in table): FF = fully formula fed; BF/FF = partially breastfed (i.e., the infant is breastfed but also receives formula from the WIC Program in an amount not to exceed approximately half the amount of formula allowed for a fully formula fed infant); BF = fully breastfed (i.e., the infant receives no formula through the WIC program).
¹ Table 4 of paragraph (e)(12) of this section describes the minimum requirements and specifications for the supplemental foods.
² The powder form is the form recommended for partially breastfed infants, ages 1 through 3 months in Food Package I.
³ The maximum monthly allowance is specified in reconstituted fluid ounces for liquid concentrate, ready-to-feed (RTF) liquid, and powder forms of infant formula and exempt infant formula. Reconstituted fluid ounce is the form prepared for consumption as directed on the container.
⁴ Only infant formula may be issued for infants in Food Packages I and II. Exempt infant formula may only be issued for infants in Food Package III.
⁵ If powder infant formula is provided, State agencies must provide at least the number of reconstituted fluid ounces as the maximum allowance for the liquid concentrate form of the same product in the same Food Package up to the maximum monthly allowance for powder. State agencies must issue whole containers that are all the same size.
⁶ State agencies may round up and disperse whole containers of infant formula over the food package timeframe to allow participants to receive the full authorized nutritional benefit (FNB). State agencies must use the methodology described in accordance with paragraph (h)(1) of this section.
⁷ State agencies may round up and disperse whole containers of infant foods (infant cereal, fruits and vegetables, and meat) over the Food Package timeframe. State agencies must use the methodology described in accordance with paragraph (h)(2) of this section.
⁸ Fresh banana may replace up to 16 ounces of baby food fruit at a rate of 1 pound of bananas per 8 ounces of baby food fruit.

[FR Doc. C6-6627 Filed 8-31-06; 8:45 am]

BILLING CODE 1505-01-D

COMMODITY FUTURES TRADING COMMISSION

17 CFR Part 4

RIN 3038-AC35

Advertising by Commodity Pool Operators, Commodity Trading Advisors, and the Principals Thereof

Correction

In proposed rule document E6-13946 beginning on page 49387 in the issue of Wednesday, August 23, 2006, make the following correction:

On page 49388, in the first column, in footnote 3, in the first line, “4.31-4.26” should read “4.31-4.36”.

[FR Doc. Z6-13946 Filed 8-31-06; 8:45 am]

BILLING CODE 1505-01-D

FEDERAL MINE SAFETY AND HEALTH REVIEW COMMISSION

29 CFR Part 2700

Procedural Rules

Correction

In rule document 06-6642 beginning on page 44190 in the issue of Friday, August 4, 2006, make the following correction:

§ 2700.74 [Corrected]

On page 44209, in the second column, in § 2700.74(a), in the last line, “party;” should read “party.”.

[FR Doc. C6-6642 Filed 8-31-06; 8:45 am]

BILLING CODE 1505-01-D